DEPARTMENT OF THE INTERIOR

Bureau of Land Management

[WO-310-1310-PB-24 1A]

Extension of Approved Information Collection, OMB Control Number 1004-0196

AGENCY: Bureau of Land Management, Interior.

ACTION: Notice and request for comments.

SUMMARY: In accordance with the Paperwork Reduction Act of 1995, the Bureau of Land Management (BLM) is requesting the Office of Management and Budget (OMB) to extend an existing approval to collect certain information from operators and operating rights owners who apply for designation of National Petroleum Reserve-Alaska (NPRA) unit agreements. We collect nonform information to determine whether to grant approval to operate under a unit plan for NPRA Federal lands. We require operators to retain and provide data to determine whether proposed unit agreements meet the requirements for unitized exploration and development of oil and gas resources of the NPRA.

DATES: You must submit your comments to BLM at the address below on or before April 11, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0196” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Barbara Gamble, Fluid Minerals Group, on (202) 452-0338 (Commercial or FTS). Persons who use a telecommunication device for the deaf (TDD) may call the Federal Information Relay Service (FIRS) on 1-800-877-8330, 24 hours a day, seven days a week, to contact Ms. Gamble.

SUPPLEMENTARY INFORMATION: 5 CFR 1320.12(a) requires that BLM provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Naval Petroleum Reserves Production Act of 1976, as amended (42 U.S.C. 6501 et seq.), the Federal Land Policy and Management Act of 1976 (43 U.S.C. 1701 et seq.), and the National Environmental Policy Act of 1969 (NEPA), as amended (42 U.S.C. 4321 et seq.), and 43 CFR 3133, 3135, 3137, and 3138 require affected oil and gas operators and operating rights owners to maintain records or provide information to apply for suspensions of royalty; apply for suspensions of operations; form and maintain unit agreements; and to enter into subsurface storage agreements, respectively. All recordkeeping burdens are associated with the nonform items requested.

The reporting burden of each provision for the information collection, including recordkeeping, depends on which information is required. The respondents are oil and gas operators and operating rights owners. The frequency of response varies from one-time only to occasionally to routine, depending on activities conducted. We estimate 35 responses per year and a total annual burden of 410 hours. We based this estimate on our experience managing the program. The table below summarizes our estimates.

Information collection (43 CFR) | Requirement | Hours per response | Respondents | Burden hours
3133.4 | Royalty reduction | 16 | 1 | 16
3135.3 | Suspension of operations | 4 | 1 | 4
3135.6 | Notification of operations | .25 | 1 | .25
3137.23 | Unit designation | 80 | 3 | 240
3137.25 | Notification of unit approval | 1 | 3 | 3
3137.52 | Certification for modification | 4 | 1 | 4
3137.60 | Acceptable Bonding | .5 | 3 | 1.5
3137.61 | Change of unit operator | .75 | 2 | 1.5
3137.70 | Certification of unit obligation | 2 | 3 | 6
3137.71 | Certification of continuing development | 2 | 3 | 6
3137.84 | Productivity for a PA | 12 | 2 | 24
3137.87 | Unleased tracts | 3 | 1 | 3
3137.88 | Notification of productivity | .5 | 1 | .5
3137.91 | Notification of productivity for non-unit well | .5 | 1 | .5
3137.92 | Production information | 1 | 1 | 1
3137.112 | Lease extension | 3 | 1 | 3
3137.113 | Inability to conduct operations activities | 2 | 1 | 2
3137.130 | Unit termination | 1 | 2 | 2
3137.135 | Impact mitigation | 4 | 3 | 12
3138.11 | Storage agreement | 80 | 1 | 80
Total |  |  | 35 | 410

BLM will summarize all responses to this notice and include them in the request for OMB approval. All comments will become a matter of public record.

Dated: February 4, 2003.
Michael H. Schwartz,
Bureau of Land Management, Information Collection Clearance Officer.

[FR Doc. 03-3258 Filed 2-7-03; 8:45 am]

BILLING CODE 4310-84-M